DEPARTMENT OF TRANSPORTATION

National Highway Traffic Safety Administration

Discretionary Cooperative Agreements To Support You Drink & Drive. You Lose. Campaign With State Associations of Chiefs of Police

AGENCY: National Highway Traffic Safety Administration (NHTSA), DOT.

ACTION: Announcement of Cooperative Agreements in conjunction with the You Drink & Drive. You Lose. Campaign to increase impaired driving enforcement with the State Associations of Chiefs of Police.

SUMMARY: The National Highway Traffic Safety Administration (NHTSA) announces a cooperative agreement program to solicit support for the You Drink & Drive. You Lose. Campaign. NHTSA solicits applications from the State Associations of Chiefs of Police to participate in the campaign, by mobilizing law enforcement agencies to increase the enforcement of impaired driving laws. Only applications submitted by the State Association of Chiefs of Police will be considered. The State Associations of Chiefs of Police will take a leadership role in involving the law enforcement agencies in their state in increasing enforcement of impaired driving laws by participating in the mobilization periods, highly visibility enforcement, training for officers and public information and education.

DATES: Applications must be received no later than July 16, 2001 at 2 pm., Eastern Standard Time.

ADDRESSES: Applications must be submitted to the National Highway Traffic Safety Administration, Office of Contracts and Procurement (NAD-30), ATTN: Ross S. Jeffries, 400 7th Street, SW., Room 5301, Washington, DC 20590. All applications submitted must include a reference to NHTSA Cooperative Agreement Program No.

FOR FURTHER INFORMATION CONTACT: General administrative questions may be directed to, Ross S. Jeffries, Office of Contracts and Procurement at (202) 366-6283. Programmatic questions should be directed to Sandy Richardson, Traffic Law Enforcement Division, NTS-13, NHTSA, 400 7th Street, SW., Washington DC 20590 by e-mail srichardson@nhtsa.dot.gov or by phone (202) 366-4294. Interested applicants are advised that no separate application package exists beyond the contents of this announcement.

SUPPLEMENTARY INFORMATION:

Background

Each year, approximately 41,000 Americans die in traffic crashes and another three million are injured. On America's roads, someone is killed every 13 minutes and someone is injured every nine seconds in traffic crashes.

In 1995, law enforcement agencies, working with Federal, state and community traffic safety partners established a national goal of reducing alcohol-related traffic fatalities in America to no more than 11,000 by the year 2005. Ultimately, the goal is zero tolerance. Achieving this goal will reduce deaths caused by impaired driving by approximately 5,000 each year, saving 14 lives every day. Reducing the death toll to 11,000 represents a national commitment.

Two national mobilizations are planned yearly targeting impaired drivers. The first “wave” takes place the July 4th week. The second mobilization period is for a week in December. The impaired driving dates coincide with those regularly scheduled by Operation Combined Accident Reduction Effort, the organization of state police and highway patrols which schedules saturated holiday enforcement periods. By establishing these dates, law enforcement can continue to conduct enforcement campaigns around holidays and other emphasis periods and the highway safety community can partner to help publicize the events and better educate the public.

Past agency efforts have identified a number of enforcement techniques, strategies, and technology-based tools which can act to reduce the occurrence of impaired driving related crashes.

1. Sobriety Checkpoints and Saturation Patrols

Sobriety checkpoints and saturation patrols coupled with a public information and education campaign have proven to be highly effective in removing the impaired driver from the highways. Research conducted both in the U.S. and abroad indicates that the use of sobriety checkpoints has been associated with substantial reductions in impaired driving related crashes (Ross, 1992; Voas et al. 1985). Sobriety checkpoints involve the stopping of motor vehicles on a non-discriminatory basis in order to detect drivers who may be impaired by alcohol and other drugs. In addition, checkpoints can be instrumental in the enforcement of other traffic safety laws such as zero tolerance for youth and graduated licensing. The use of sobriety checkpoints is permitted in 41 states and the District of Columbia.

As an example of the kinds of reductions that may be achieved with a large and sustained program, the State of Tennessee conducted an intensive sobriety checkpoint effort combined with PI & E from April 1994 to March 1995 (see Lacey et al., 1999). As part of this effort, state and local enforcement agencies were involved. Nearly 900 checkpoints were conducted and more than 140,000 drivers were checked for alcohol impairment. In addition to the nearly 800 DUI arrests, there were more than 9,000 other traffic citations. Use of interrupted time series analysis indicated a 20 percent reduction over the number of impaired driving fatal crashes that would have occurred with no intervention. It was estimated that there was a reduction of 9 impaired driving fatal crashes per month due to the influence of the checkpoint program, amounting to more than 100 lives saved over the intervention period. A check of five comparison states showed non-significant increases in impaired-driving-fatal crashes over the same period.

In addition to sobriety checkpoints, another approach for apprehending impaired drivers is the use of saturation patrols. Law enforcement agencies have often concentrated traffic safety efforts in high volume crash areas in an attempt to reduce the frequency of impaired-driving-related crashes, and other traffic violations. Model guidelines for implementing saturation patrols as a means of reducing impaired driving on a community-wide basis were developed under the auspices of the International Association of Chiefs of Police, the National Sheriff's Association and NHTSA.

Data from the sixteen DUI Task Forces in Arizona indicated that 2,922 DUI arrests were made during the 2000 holiday period saturation patrols (November 22-January 1, 2001). The average BAC was .157. The officers participating in the saturation patrols also conducted 130 Drug Recognition Expert Evaluations, wrote 407 child seat violations, 1, 855 citations for non-belt use, 493 citations for minor consumption, and 194 underage DWI arrests.

2. National Mobilizations

Since the national law enforcement mobilizations have been proven to be effective in increasing seat belt use, two mobilizations periods have been established for impaired driving enforcement. The You Drink & Drive. You Lose. Campaign supports two national mobilizations each year (July 4 and the December holidays). Law enforcement agencies from around the country conducted sobriety checkpoints and saturation patrols combined with a public information and education campaign during the past three mobilization periods.

3. Impaired Driving Enforcement Training

Officers trained in the proper administration of the Standardized Field Sobriety Tests (SFST) are more successful in the detection, apprehension and conviction of the impaired driver. The Drug Evaluation and Classification (DEC) Program was developed to train law enforcement officers in the detection, apprehension, and conviction of the drug impaired driver.

Period of Support

Cooperative agreements may be awarded for a period of support for (1) year. The application should address what is proposed and can be accomplished during the funding period (12 months). Subject to the availability of funds, the agency anticipates awarding up to 5 cooperative agreements in the amount of $50,000 each, totaling $250,000. Federal funds should be viewed as seed money to assist the Associations in working with local law enforcement agencies in the development of traffic safety initiatives. NHTSA may choose to extend the period of performance under this agreement for an additional 12 months, subject to the availability of funds. If NHTSA elects to do so, it will notify the recipients within 60 days prior to the expiration of this agreement and the recipients will submit a proposal for an additional 12 months of performance.

Eligibility Requirements

In order to be eligible to participate in this cooperative agreement program, an applicant must be a State Association of Chiefs of Police, and must meet the following requirements:

—Have the ability to provide funding to law enforcement agencies in the state.

—Have written support and approval from the applicant's chief executive officer to conduct impaired driving enforcement programs to participate in and encourage local law enforcement participation in the You Drink & Drive. You Lose Campaign. (Include copy with proposal.)

—Obtain written support from the Governor's Representative or his/her designee in the State Highway Safety Office (SHSO) demonstrating that the applicant's proposal is partnered with the State's program. (Include copy with proposal.)

Application Procedure

Each applicant must submit one original and two copies of their application package to: NHTSA, Office of Contracts and Procurement (NAD-30), ATTN: Ross S. Jeffries, 400 7th Street, SW., Room 5301, Washington, DC 20590. Only complete application packages received by the due date will be considered. Submission of four additional copies will expedite processing, but is not required. Applications must be typed on one side of the page only. Applications must include a reference to NHTSA Program No. DTNH22-01-R-05144. The applicant shall specifically identify any information in the application for which confidential treatment is requested, in accordance with the procedures of 49 CFR Part 512, Confidential Business Information.

Only complete packages received on or before May 25, 2001 at 2:00 p.m. Eastern Standard Time will be considered.

Application Contents

The application package must be submitted with OMB Standard Form 424 (Rev. 4-88, including 424A and 424B), Application for Federal Assistance, with the required information filled in and the certifications and assurances included. While the Form 424-A deals with budget information, and section B identifies Budget Categories, the available space does not permit a level of detail which is sufficient to provide for a meaningful evaluation of the proposed costs. A supplemental sheet should be provided which presents a detailed breakdown of the proposed costs, as well as any costs which the applicant proposes to contribute in support of this effort. The budget should be a 1-year plan. Also included shall be a program narrative statement which addresses the following:

1. A description of the project to be pursued which provides:

a. A detailed explanation of the proposed strategy to support the enforcement efforts, including methods for gaining support (both within the community and law enforcement leadership) for “waves” of highly publicized impaired driving enforcement and for mobilization efforts. In addition, an explanation of the strategies to fund local law enforcement agencies to participate in the national mobilizations, and to conduct “waves” of highly publicized impaired driving enforcement. A description of efforts to address training needs (e.g., SFST, DEC) of law enforcement jurisdictions and how training will be marketed to these jurisdictions.

b. The goals, objectives, and the anticipated results and benefits of the project (supporting documentation from concerned interests other than the applicant can be used.)

c. Written evidence of approval by the applicant's Chief Executive Officer.

d. An explanation demonstrating the need for assistance.

e. Description of any extraordinary social/community involvement.

f. A discussion of the criteria to be used to evaluate the results (e.g. number of citations, number of officers trained, number of sobriety checkpoints, number of saturation patrols conducted, level of earned media coverage, etc.).

2. A list of the proposed activities in chronological order to show the schedule of accomplishments and their target dates.

3. Identification of the proposed program coordinator for participation in the proposed project effort.

4. A description of the applicant's previous experience related to this proposed program effort (i.e. past participation in highly publicized enforcement or participation in the impaired driving national seat belt mobilizations).

5. A statement of any technical assistance which the applicant may require of NHTSA in order to successfully complete the proposed project.

Application Review Process and Evaluation Factors

Initially, each application will be reviewed to confirm that the applicant meets the eligibility requirements and that the application contains all of the information required by the Application Contents section of this notice. Each complete application from an eligible recipient will then be evaluated by a Technical Evaluation Committee. The applications will be evaluated using the following criteria:

1. The Potential of the Proposed Project Effort To Increase Impaired Driving Enforcement (40%)

The likeliness and feasibility of the applicant's projects to increase impaired driving enforcement by law enforcement jurisdictions. The degree to which the applicant has identified jurisdictions that might benefit from impaired driving training opportunities and effectiveness of the applicant's plan for providing that training. The impaired driving training offered must meet the standards that have been established by the International Association of Chiefs of Police (IACP) and approved by the IACP/NHTSA. Currently, the IACP/NHTSA curriculum for SFST and DEC are the only training programs that meet those standards. The overall soundness and feasibility of the applicant's approach to participating and successfully seeking law enforcement participation in mobilization efforts and public information campaigns concerning impaired driving.

2. The Applicant's Proposed Strategy for Participating and Seeking the Participation of Local Law Enforcement Agencies in the You Drink & Drive. You Lose. Campaign National Mobilizations (40%)

The likeliness and feasibility of the Association's proposal, as described in its innovative project plan, to assist smaller law enforcement agencies in participating in the You Drink & Drive. You Lose. Campaign national mobilizations. The degree to which the applicant has demonstrated a complete understanding of the requirements for successful participation in the national impaired driving mobilizations. The overall soundness and feasibility of the applicant's proposed strategy and demonstrated ability to involve and coordinate this project with smaller law enforcement agencies.

3. The Applicant's Ability To Demonstrate Support and Coordination With Local Government and the State Highway Safety Office (15%)

The degree to which the proposal describes efforts and commitment to obtain the support from local government officials throughout the State. The likeliness and feasibility of the applicant's proposal for reaching local and state government executives throughout the state, including suggested methods for generating interest, making initial contacts and reasons for taking the proposed approach as opposed to others.

4. The Adequacy of the Organizational Plan for Accomplishing the Proposed Project Effort Through the Experience and Technical Expertise of the Proposed Personnel (5%)

Program management and technical expertise will be estimated by reviewing the qualifications and experience of the proposed personnel, and the relative level of effort of the staff. Consideration will be given to the adequacy of the organizational plan for accomplishing the proposed project effort. Consideration will also be given to the Association's resources and how it will provide the program management capability and personnel expertise to successfully perform the activities in its plan.

NHTSA Involvement

The NHTSA will be involved in all activities undertaken as part of the cooperative agreement program and will:

1. Provide a Contracting Officer's Technical Representative (COTR) to participate in the planning and management of the cooperative agreement and to coordinate activities between the selected State Associations of Chiefs of Police and NHTSA;

2. Provide information and technical assistance from government sources, within available resources and as determined appropriate by the COTR;

3. Provide liaison between the selected State Associations of Chiefs of Police and other government and private agencies as appropriate; and

4. Stimulate the exchange of ideas and information among cooperative agreement recipients through periodic meetings.

Terms and Conditions of Award

1. Prior to award, the recipient must comply with the certification requirements of 49 CFR Part 29—Department of Transportation Government-wide Debarment and Suspension (Non-procurement) and Government-wide Requirements for Drug-Free Workplace (Grants).

2. During the effective period of the cooperative agreement(s) awarded as a result of this notice, the agreement(s) shall be subject to NHTSA's General Provisions for Assistance Agreements (7-95).

Reporting Requirements

1. The recipient shall submit brief quarterly reports documenting the project effort to date, which will include information on accomplishments, obstacles and problems encountered, and noteworthy activities. Quarterly reports shall be due 15 days after the end of each quarter, and a final report summarizing the project effort shall be due within 30 days after the completion of the project. An original and three copies of each of these reports shall be submitted to the COTR.

2. The recipient may be requested to conduct an oral presentation of project activities for the COTR and other interested NHTSA personnel. For planning purposes, assume that these presentations will be conducted at the NHTSA Office of Traffic and Injury Control Programs, Washington, DC or at a conference, as identified by the COTR. An original and three copies of briefing materials shall be submitted to the COTR.

Rose A. McMurray,
Associate Administrator for Traffic Safety Programs.

[FR Doc. 01-13641 Filed 5-30-01; 8:45 am]

BILLING CODE 4910-59-P